DEPARTMENT OF THE INTERIOR

Bureau of Ocean Energy Management

[OMB Control Number 1010-0072; Docket ID: BOEM-2017-0016]

Agency Information Collection Activities; Commercial Prospecting, Noncommercial Geological and Geophysical Exploration, and Scientific Research for Minerals Other Than Oil, Gas, and Sulfur on the Outer Continental Shelf

AGENCY: Bureau of Ocean Energy Management, Interior.

ACTION: Notice of information collection; request for comment.

SUMMARY: In accordance with the Paperwork Reduction Act of 1995 (PRA), the Bureau of Ocean Energy Management (BOEM) proposes to renew an information collection request (ICR) with revisions.

DATES: Interested persons are invited to submit comments on or before June 4, 2021.

ADDRESSES: Send your comments on this ICR by mail to the BOEM Information Collection Clearance Officer, Anna Atkinson, Bureau of Ocean Energy Management, 45600 Woodland Road, Sterling, Virginia 20166; or by email to anna.atkinson@boem.gov. Please reference OMB Control Number 1010-0072 in the subject line of your comments.

FOR FURTHER INFORMATION CONTACT: To request additional information about this ICR, contact Anna Atkinson by email at anna.atkinson@boem.gov, or by telephone at 703-787-1025.

SUPPLEMENTARY INFORMATION: In accordance with the Paperwork Reduction Act of 1995, BOEM provides the general public and Federal agencies with an opportunity to comment on new, proposed, revised, and continuing collections of information. This helps BOEM assess the impact of our information collection requirements and minimize the public's reporting burden. It also helps the public understand BOEM's information collection requirements and provide the requested data in the desired format.

BOEM seeks comments on the proposed ICR described below. BOEM is especially interested in comments addressing the following issues: (1) Is the collection necessary to conduct the proper functions of BOEM; (2) what can BOEM do to ensure that this information is processed and used in a timely manner; (3) is the burden estimate accurate; (4) how might BOEM enhance the quality, utility, and clarity of the information to be collected; and (5) how might BOEM minimize the burden of this collection on the respondents, including minimizing the burden through the use of information technology?

Comments submitted in response to this notice are a matter of public record. BOEM will include or summarize each comment in its request to the Office of Management and Budget (OMB) for approval of this ICR. You should be aware that your entire comment—including your address, phone number, email address, or other personally identifiable information—may be publicly disclosed. In order to inform BOEM's decision on whether it can withhold from disclosure your personally identifiable information, you must identify any information contained in your comments that, if released, would constitute a clearly unwarranted invasion of your privacy, and briefly describe possible harmful consequences of disclosing that information, such as embarrassment, injury, or other harm. While you can ask BOEM in your comment to withhold your personally identifiable information from public disclosure, BOEM cannot guarantee that it will be able to do so.

BOEM protects proprietary information in accordance with the Freedom of Information Act (5 U.S.C. 552) and the Department of the Interior's implementing regulations (43 CFR part 2).

Title of Collection: Commercial Prospecting, Noncommercial Geological and Geophysical Exploration, and Scientific Research for Minerals Other Than Oil, Gas, and Sulfur on the Outer Continental Shelf (Applicable, in part, to 30 CFR part 580).

Abstract: This ICR concerns the information collection requirements in 30 CFR part 580, “Prospecting for Minerals Other than Oil, Gas, and Sulphur on the Outer Continental Shelf [OCS]”, which includes commercial prospecting and scientific research. This request also includes information collection requirements related to authorizations of noncommercial geological and geophysical (G&G) exploration issued pursuant to section 11 of the Outer Continental Shelf Lands Act (OCS Lands Act), as amended (43 U.S.C. 1340 et seq., and 43 U.S.C. 1801 et seq.).

The OCS Lands Act authorizes the Secretary of the Interior (Secretary) to prescribe rules and regulations to administer leasing of mineral resources on the OCS. Section 8 of the OCS Lands Act authorizes the Secretary “. . . to grant to the qualified persons offering the highest cash bonuses on a basis of competitive bidding leases of any mineral other than oil, gas, and sulphur in any area of the [O]uter Continental Shelf not then under lease for such mineral upon such royalty, rental, and other terms and conditions as the Secretary may prescribe at the time of offering the area for lease.” 43 U.S.C. 1337(k)(1). The same section also authorizes the Secretary to noncompetitively negotiate agreements for the use of OCS sand, gravel, and shell resources for use in shore protection, beach restoration, or coastal wetlands restoration projects undertaken by a Federal, State, or local government agency, or for use in a construction project funded in whole or in part by or authorized by the Federal Government. 43 U.S.C. 1337(k)(2).

Section 11 of the OCS Lands Act states that “. . . any person authorized by the Secretary may conduct geological and geophysical explorations in the [O]uter Continental Shelf, which do not interfere with or endanger actual operations under any lease maintained or granted pursuant to this subchapter, and which are not unduly harmful to aquatic life in such area.” 43 U.S.C. 1340(a)(1). Section 2 of the OCS Lands Act defines the term “exploration” to mean the process of searching for minerals, including, among other things, “geophysical surveys where magnetic, gravity, seismic, or other systems are used to detect or imply the presence of such minerals.” 43 U.S.C. 1331(k). Section 11 also requires that permits or authorizations for geologic exploration be issued if it is determined that the applicant is qualified and the exploration will neither result in pollution nor create hazardous or unsafe conditions, unreasonably interfere with other uses of the area, or disturb any site, structure, or object of historical or archaeological significance. 43 U.S.C. 1340(g).

BOEM considers applications for commercial prospecting and noncommercial exploration for marine minerals as well as scientific research related to marine minerals. Under 30 CFR part 580, G&G prospecting by any person on unleased lands or on lands leased to a third party requires a BOEM permit. G&G activities conducted for scientific or academic purpose require submission of a scientific research notice. See 30 CFR 580.11. Because 30 CFR part 580 does not apply to noncommercial exploration, such activities are authorized directly pursuant to section 11 of the OCS Lands Act. Noncommercial exploration includes searching for sand, gravel, and other sources of sediment for potential use in qualifying beach nourishment and coastal restoration projects.

As a Federal agency, BOEM must comply with the National Environmental Policy Act (42 U.S.C. 4321 et seq.), Endangered Species Act (16 U.S.C. 1531 et seq.), and Marine Mammal Protection Act (16 U.S.C. 1361 et seq.), among other environmental laws. Compliance with the Endangered Species Act includes a substantive duty to carry out agency action in a manner that is unlikely to jeopardize protected species or adversely modify designated critical habitat as well as a procedural duty to consult with the U.S. Fish and Wildlife Service and National Marine Fisheries Service, as applicable, before engaging in a discretionary action that may affect a protected species.

Respondents must submit form BOEM-0134, “Requirements for Geological and Geophysical Prospecting, Exploration, or Scientific Research on the OCS Related to Minerals Other than Oil, Gas, and Sulphur,” to provide the information necessary to evaluate their request to conduct G&G prospecting, exploration, or scientific research activities. BOEM uses the submitted information to ensure there will be neither adverse effects to the marine, coastal, or human environment, personal harm, unsafe operations and conditions, nor unreasonable interference with other uses; to analyze and evaluate preliminary or planned mining activities; to monitor progress and activities in the OCS; to acquire G&G data and information collected under a Federal permit or authorization; and to determine eligibility for reimbursement from the Government for certain costs. Upon approval, BOEM issues respondents a permit or an authorization (BOEM-0135 form, “Permit for Geophysical Prospecting for Mineral Resources, Authorization of Geophysical Exploration for Minerals Resources, or Scientific Research on the OCS Related to Minerals Other than Oil, Gas, and Sulphur,” and BOEM-0136 form, “Permit for Geological Prospecting for Mineral Resources, Authorization of Geological Exploration for Minerals Resources, or Scientific Research on the OCS Related to Minerals Other than Oil, Gas, and Sulphur).

BOEM uses the information collected to understand the G&G characteristics of marine mineral-bearing physiographic regions of the OCS. The information aids BOEM in analyzing and weighing the potential for environmental damage, the discovery of marine minerals, and any associated impacts on adjacent coastal States.

OMB Control Number: 1010-0072.

Form Number: BOEM-0134, “Requirements for Geological and Geophysical Prospecting, Exploration, or Scientific Research on the OCS Related to Minerals Other than Oil, Gas, and Sulphur.”

The following forms are the permit forms issued by BOEM based on information provided in BOEM-0134:

BOEM-0135, “Permit for Geophysical Prospecting for Mineral Resources, Authorization of Geophysical Exploration for Minerals Resources, or Scientific Research on the OCS Related to Minerals Other than Oil, Gas, and Sulphur.”

BOEM-0136, “Permit for Geological Prospecting for Mineral Resources, Authorization of Geological Exploration for Minerals Resources, or Scientific Research on the OCS Related to Minerals Other than Oil, Gas, and Sulphur.”

Type of Review: Revision of a currently approved collection.

Respondents/Affected Public: Permittees, applicants, and other respondents, including those required to only file notices (scientific research).

Total Estimated Number of Annual Responses: 49 responses.

Total Estimated Number of Annual Burden Hours: 730 hours.

Respondent's Obligation: Mandatory or required to obtain or retain a benefit.

Frequency of Collection: On occasion, annual, or as specified in permits.

Total Estimated Annual Non-Hour Burden Cost: $4,024 non-hour cost burden.

Estimated Reporting and Recordkeeping Hour Burden: BOEM estimates 730 burden hours for this renewal, which is a 245 annual burden hour increase over the currently approved information collection. The increase in burden hours is in relationship to the increases in the number of annual applications and authorizations.

The following table details the individual BOEM components and respective hour burden estimates of this ICR. In calculating the burden hours, BOEM assumed that respondents perform certain usual and customary requirements in the normal course of their activities.

Burden Table
Citation 30 CFR part 580, as applicable | Reporting and recordkeeping requirements | Hour burden | Average number of annual responses | Annual burden hours
| Non-hour cost burden 1
Subpart B
10; 11(a); 12; 13; Permit Form | Apply for permit or authorization (Form BOEM-0134) to conduct prospecting or noncommercial G&G exploration, including prospecting/exploration plan and environmental assessment or required drilling plan. Provide notifications & additional information as required | 88 | 2 permit applications 4 applications for authorization | 176 352
|  | $2,012 permit application fee × 2 permits 2 = $4,024
11(b); 12(c) | File notice to conduct scientific research activities related to hard minerals, including notice to BOEM prior to beginning and after concluding activities | 8 | 3 notices | 24
Subtotal | 9 responses | 552 hours
| $4,024 non-hour cost burden
Subpart C
21(a) | Report to BOEM if hydrocarbon/other mineral occurrences are detected; if environmental hazards that imminently threaten life and property are detected; or adverse effects occur to the environment, aquatic life, archaeological resources, or other uses of the area | 1 | 2 reports | 2
22 | Submit request for approval to modify operations, with required information | 1 | 4 requests | 4
23(b) | Request reimbursement for food, quarters, and/or transportation expenses for BOEM inspection | 1 | 3 requests | 3
24 | Submit status and final reports on specified schedule with daily log | 16 | 6 reports | 96
28 | Request relinquishment of permit by certified or registered mail | 1 | 1 request 3 | 1
31(b); 73(a)(b) | Governor(s) of adjacent State(s) submit to BOEM: Comments on activities involving an environmental assessment; any agreement between Governor and Secretary upon Governor's request for proprietary data, information, and samples; and any disclosure agreement | Not considered IC as defined in 5 CFR 1320.3(h)(4). |  | 0
33, 34 | Appeal civil penalty; appeal order or decision | Burden exempt under 5 CFR 1320.4(a)(2); (c). |  | 0
Subtotal | 16 responses | 106
Subpart D
40; 41; 50; 51; Permit Form | Notify BOEM and submit G&G data including analysis, processing or interpretation of information collected under a permit/authorization and/or processed by permittees or 3rd parties, including reports, logs or charts, results, analyses, descriptions, etc., as required | 8 | 5 submissions | 40
42(b); 52(b) | Advise 3rd party recipient in writing that it assumes obligations as condition precedent of sale—no submission to BOEM is required | ½ | 4 notices | 2
42(c), (d); 52(c), (d) | Written notification to BOEM of sale, trade, transfer, or licensing of data and identify recipient | 1 | 1 notice | 1
60; 61 | Request reimbursement for costs of reproducing data/information & certain processing costs | 1 | 1 request 3 | 1
70 | Enter disclosure agreement | 4 | 1 agreement | 4
72(b) | Submit comments on BOEM's intent to disclose data/information for reproduction, processing, and interpretation | 4 | 1 response | 4
72(d) | Independent contractor or agent prepares and signs written commitment not to sell, trade, license, or disclose data/information without BOEM approval | 4 | 2 submissions | 8
Subtotal | 15 responses | 60
General
Part 580 | General departure and alternative compliance requests not specifically covered elsewhere in Part 580 regulations | 4 | 1 request | 4
Permits 4 | Request extension of permit/authorization time period | 1 | 2 requests | 2
Permits 4 | Retain G&G data/information for 10 years and make available to BOEM upon request | 1 | 6 respondents | 6
Subtotal | 9 responses | 12 hours
Total Burden | 49 responses | 730 hours
| $4,024 non-hour cost burdens
1 Fees are subject to modification for inflation annually. Fees only apply to prospecting permits, not scientific research notices or noncommercial G&G exploration authorizations.
2 Only prospecting permits, not scientific research notices or noncommercial G&G exploration authorizations, are subject to cost recovery.
3 No requests received for many years. Minimal burden for regulatory (PRA) purposes only.
4 These permits/authorizations are prepared by BOEM and sent to respondents; therefore, the forms themselves carry minimal burden hours.

An agency may not conduct or sponsor, and a person is not required to respond to, a collection of information unless it displays a currently valid OMB control number.

The authority for this action is the Paperwork Reduction Act of 1995 (44 U.S.C. 3501 et seq.).

Deanna Meyer-Pietruszka,
Chief, Office of Policy, Regulation, and Analysis.

[FR Doc. 2021-06973 Filed 4-2-21; 8:45 am]

BILLING CODE 4310-MR-P